ENVIRONMENTAL PROTECTION AGENCY

[FRL-7537-3]

Proposed Agreement Pursuant to Section 122(h)(1) of the Comprehensive Environmental Response, Compensation, and Liability Act (CERCLA) for the Sybill Used Oil Processing Plant Site in Detroit, MI

AGENCY: Environmental Protection Agency (“EPA”).

ACTION: Notice and request for public comment on proposed CERCLA 122(h)(1) agreement with General Motors Corporation (GM), Ford Motor Company, Detroit Diesel Corporation, Rouge Steel Company, Sybill, Inc. and the Chapter 7 Bankruptcy Trustee for V.C. Madias addressing contamination at the Sybill used oil processing plant in Detroit, Michigan.

SUMMARY: In accordance with section 122(i)(1) of CERCLA, notification is hereby given of a proposed administrative settlement agreement concerning the Sybill used oil processing plant at 111 Military Street in Detroit, Wayne County, Michigan (the “Site”). EPA proposes to enter into this agreement under the authority of sections 122(h) and 107 of CERCLA. The proposed agreement has been executed by GM, Ford Motor Company, Detroit Diesel Corporation, Rouge Steel Company, Sybill, Inc. and the Chapter 7 Bankruptcy Trustee for V.C. Madias (the “Settling Parties”). Under the proposed agreement, the Settling Parties will implement a removal action to address waste oil contamination at the used oil processing facility formerly owned and operated by Sybill, Inc. and located in Detroit, Michigan. Also, the Settling Parties will pay to the Hazardous Substances Superfund all of the Agency's future oversight costs to be incurred in overseeing the work under the agreement. In addition, under this agreement, EPA waives all of its past response costs incurred at the Sybill Site ($56,000). EPA incurred these past response costs mitigating an imminent and substantial endangerment to human health or the environment present or threatened by hazardous substances present at the Site. For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before August 29, 2003.

ADDRESSES: Comments should be addressed to the Docket Clerk, U.S. Environmental Protection Agency, Region 5, 77 West Jackson Boulevard, Chicago, Illinois 60604-3590, and should refer to: In the Matter of Sybill, Inc., EPA Docket No. V-W-03-C-746.

FOR FURTHER INFORMATION CONTACT: Thomas J. Martin, U.S. Environmental Protection Agency, Office of Regional Counsel, C-14J, 77 West Jackson Boulevard, Chicago, Illinois 60604-3590, (312) 886-4273. A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

William E. Muno,
Director, Superfund Division, Region 5.

[FR Doc. 03-19284 Filed 7-29-03; 8:45 am]

BILLING CODE 6560-50-P